DEPARTMENT OF COMMERCE

National Oceanic and Atmospheric Administration

RIN 0648-XC758

Permanent Advisory Committee to Advise the U.S. Commissioners to the Western and Central Pacific Fisheries Commission; Meeting Announcement

AGENCY: National Marine Fisheries Service (NMFS), National Oceanic and Atmospheric Administration (NOAA), Commerce.

ACTION: Notice of public meeting.

SUMMARY: NMFS announces a meeting of the Permanent Advisory Committee (PAC) to advise the U.S. Commissioners to the Western and Central Pacific Fisheries Commission (WCPFC) on October 28-October 29, 2013. Meeting topics are provided under the SUPPLEMENTARY INFORMATION section of this notice.

DATES: The meeting of the PAC will be held on October 28, 2013, from 8 a.m. to 4 p.m. HST (or until business is concluded) and October 29, 2013 from 8 a.m. to 4 p.m. HST (or until business is concluded).

ADDRESSES: The meeting will be held at the NMFS Honolulu Service Center, located at Pier 38, 1139 N. Nimitz Hwy. Suite 220, Honolulu, HI 96817.

FOR FURTHER INFORMATION CONTACT: Emily Crigler, NMFS Pacific Islands Regional Office; telephone: 808-944-2289; facsimile: 808-973-2941; email: emily.crigler@noaa.gov.

SUPPLEMENTARY INFORMATION: In accordance with the Western and Central Pacific Fisheries Convention Implementation Act (16 U.S.C. 6901 et seq.), the Department of Commerce, in consultation with the U.S. Commissioners to the WCPFC, has appointed a Permanent Advisory Committee or PAC to advise the U.S. Commissioners to the WCPFC. The PAC supports the work of the U.S. National Section to the WCPFC in an advisory capacity. The U.S. National Section is made up of the U.S. Commissioners and the Department of State. NMFS Pacific Islands Regional Office provides administrative and technical support to the PAC in cooperation with the Department of State. The next regular annual session of the WCPFC (WCPFC10) is scheduled for December 2-6, 2013, in Cairns, Australia. More information on this meeting and the WCPFC, established under the Convention on the Conservation and Management of Highly Migratory Fish Stocks in the Western and Central Pacific Ocean, can be found on the WCPFCs Web site: http://wcpfc.int/.

Meeting Topics

The PAC meeting topics may include, but are not limited to, the following:

(1) Outcomes of the 2012 and 2013 WCPFC Scientific Committee, Northern Committee, Technical and Compliance Committee, and Annual meetings;

(2) Development of conservation and management measures for bigeye, yellowfin and skipjack tuna and other species for 2014 and beyond;

(3) Development of a WCPFC compliance monitoring scheme;

(4) Issues related to the impacts of fishing on non-target, associated, and dependent species, such as sea turtles, marine mammals, seabirds and sharks;

(5) Input and advice from the PAC on issues that may arise at WCPFC10;

(6) Potential proposals from other WCPFC members; and

(7) Other issues as they arise.

Special Accommodations

The meeting location is physically accessible to people with disabilities. Requests for sign language interpretation or other auxiliary aids should be directed to Emily Crigler (see FOR FURTHER INFORMATION CONTACT) by October 11, 2013.

Authority: 16 U.S.C. 6902

Dated: August 29, 2013.
Kelly Denit,
Acting Deputy Director, Office of Sustainable Fisheries, National Marine Fisheries Service.

[FR Doc. 2013-21484 Filed 9-3-13; 8:45 am]

BILLING CODE 3510-22-P